ENVIRONMENTAL PROTECTION AGENCY

40 CFR Part 372

[EPA-HQ-OPPT-2022-0387; FRL-9529-03-OCSPP]

RIN 2070-AL09

Community Right-to-Know; Adopting 2022 North American Industry Classification System (NAICS) Codes for Toxics Release Inventory (TRI) Reporting; Correction

AGENCY: Environmental Protection Agency (EPA).

ACTION: Final rule; correction.

SUMMARY: The Environmental Protection Agency (EPA) is correcting a final rule that appeared in Federal Register on Monday, November 28, 2022, which finalized updates to the list of North American Industry Classification System (NAICS) codes subject to reporting under the Toxics Release Inventory (TRI) to reflect the Office of Management and Budget (OMB) 2022 NAICS code revision. This document corrects an error in an amendatory instruction that appeared in the regulatory text portion of the final rule.

DATES: This correction is effective on December 28, 2022.

FOR FURTHER INFORMATION CONTACT:

For technical information contact: Rachel Dean, Data Collection Branch, Data Gathering and Analysis Division (Mail code: 7406M), Office of Pollution Prevention and Toxics, Environmental Protection Agency, 1200 Pennsylvania Ave. NW, Washington, DC 20460; telephone number: (202) 566-1303; email address: dean.rachel@epa.gov.

For general information contact: The Emergency Planning and Community Right-to-Know Information Center; telephone number: (800) 424-9346 or (703) 348-5070 in the Washington, DC Area and International; website: https://www.epa.gov//hotlines.

SUPPLEMENTARY INFORMATION: EPA is correcting an inaccurate amendatory instruction in its final rule, FRL-9529-02-OCSPP, published November 28, 2022 (87 FR 72891), which finalized updates to the list of North American Industry Classification System (NAICS) codes subject to reporting under the Toxics Release Inventory (TRI) to reflect the Office of Management and Budget (OMB) 2022 NAICS code revision.

Correction

In FR Doc. 2022-25375, appearing on page 72891 in the Federal Register of Monday, November 28, 2022, the following correction is made:

1. On page 72896, in the second column, amendatory instruction 2 is corrected to read as follows:

“2. Amend § 372.22 by revising the introductory text and paragraph (b) introductory text and adding paragraph (d) to read as follows:”

Dated: November 29, 2022.
Michal Freedhoff,
Assistant Administrator, Office of Chemical Safety and Pollution Prevention.

[FR Doc. 2022-26393 Filed 12-5-22; 8:45 am]

BILLING CODE 6560-50-P